DEPARTMENT OF HOMELAND SECURITY

Coast Guard

[Docket Number USCG-2021-0191]

Waterways Commerce Cutter Acquisition Program; Preparation of a Programmatic Environmental Impact Statement

AGENCY: Coast Guard, DHS.

ACTION: Notice of intent to prepare a Programmatic Environmental Impact Statement (PEIS); notice of virtual public meeting; and request for comments.

SUMMARY: The United States Coast Guard (Coast Guard), as the lead agency, announces its intent to prepare a Programmatic Environmental Impact Statement (PEIS) for the Waterways Commerce Cutter (WCC) Program's acquisition and operation of up to 30 WCCs. The Coast Guard has determined that a PEIS is the most appropriate type of National Environmental Policy Act document for this action because of the scope and complexity of the proposed acquisition and operation of up to 30 WCCs. Notice is hereby given that the public scoping process has begun for the preparation of a PEIS that will address the reasonable alternatives and potential environmental impacts associated with implementing the Proposed Action. The scoping process solicits public comments regarding the range of issues, information, and analyses relevant to the Proposed Action, including potential environmental impacts and reasonable alternatives to address in the PEIS. Your comments may cause a change in the scope of the PEIS.

DATES: Comments and related material must be received by the Coast Guard on or before June 11th, 2021.

ADDRESSES: You may submit comments identified by docket number USCG-2021-0191 using the Federal Decision-Making Portal at https://www.regulations.gov. See the “Public Participation” portion of the SUPPLEMENTARY INFORMATION section for further instructions on submitting comments.

FOR FURTHER INFORMATION CONTACT: For information about this document, email HQS-SMB-CG-WaterwaysCommerceCutter@uscg.mil.

SUPPLEMENTARY INFORMATION: This Notice of Intent briefly summarizes the proposed project, including the purpose and need and possible alternatives. As required by the National Environmental Policy Act of 1969 (NEPA) and Council on Environmental Quality (CEQ) implementing regulations (40 CFR 1502.3), a Federal agency must prepare an Environmental Impact Statement (EIS) if it is proposing a major Federal action to analyze the environmental consequences of implementing each of the alternatives, if carried forward for full review following public scoping, by assessing the effects of each alternative on the human environment. The Coast Guard has determined that a PEIS is the most appropriate type of EIS for this action because of the scope and complexity of the proposed acquisition and operation of up to 30 WCCs.

Abbreviations

ATON Aids to Navigation

AUTEC Atlantic Undersea Test and Evaluation Center

CEQ Council on Environmental Quality

CFR Code of Federal Regulations

DHS Department of Homeland Security

EIS Environmental Impact Statement

ESA Endangered Species Act

FR Federal Register

GoMEX Gulf of Mexico

ICW Intracoastal Waterway

IW&WR Inland Waterways and Western Rivers

MBTA Migratory Bird Treaty Act

MMPA Marine Mammal Protection Act

NEPA National Environmental Policy Act

nm nautical miles

PEIS Programmatic Environmental Impact Statement

PNW Pacific Northwest

SEAK Southeast Alaska

U.S.C. United States Code

WCC Waterways Commerce Cutter

WLI WCC inland buoy tenders

WLIC WCC inland construction tenders

WLR WCC river buoy tenders

USEC-MidATL U.S. East Coast Mid-Atlantic

USEC-South U.S. East Coast-South

Purpose and Need for the Proposed Action

The Coast Guard has a statutory mission to establish, maintain, and operate aids to navigation (ATON) in the Inland Waterways and Western Rivers (IW&WR). The IW&WR includes the Gulf and Atlantic Intracoastal Waterway (ICW); the Mississippi, Missouri, Alabama, Tennessee, Columbia, and Ohio Rivers, their associated tributaries and other connecting waterways; portions of the Alaska Inside Passage; portions of the Great Lakes; and several other navigable waterways around the United States. The 35 cutters and associated 27 barges that comprise the current inland tender fleet servicing the IW&WR are, on average, more than 54 years old and all have significantly exceeded their design service life of 30 years. There is no redundant vessel capability within the Coast Guard, Department of Homeland Security (DHS), or other government agencies. Without replacement of the current inland tender fleet, the Coast Guard could face an increasing risk of failure to maintain the capability to execute its ATON mission and provide timely ATON services in the IW&WR and other navigable waters around the United States.

Due to obsolescence, hull limitations, and asset age, service life extension and modernization efforts are increasingly difficult, expensive to maintain, and cannot be justified. To maintain the Coast Guard's vital inland waterways mission and continue to provide a consistent and reliable presence in the IW&WR, the Coast Guard is proposing to replace the current aging tender fleet. WCCs would be designed to replace the capabilities of the existing inland fleet; therefore, the purpose of the Proposed Action is the acquisition and operation of up to 30 WCCs to replace the capabilities of the current inland tender fleet, thereby enabling the safe navigation of waters that support the nation's economy through maritime commerce throughout the Marine Transportation System.

Preliminary Proposed Action and Alternatives

Coast Guard has identified a proposed action and preliminary alternatives for potential consideration in the draft EIS. Both a no-action and several preliminary action alternatives are presented for consideration for public review and comment. Six proposed action areas that the WCCs would support have been identified.

(1) The U.S. East Coast Mid-Atlantic (USEC-MidATL) proposed action area includes state and territorial waters extending 12 nautical miles (nm; 19 kilometers [km]) from New Jersey (where it borders with New York) to the border of North Carolina (where it borders with South Carolina) and also extends into certain inland waterways.

(2) The U.S. East Coast-South (USEC-South), including Florida and the Bahamas proposed action area includes state and territorial waters extending 12 nm (19 km) from South Carolina (where it borders with North Carolina) to Florida (where it borders with Alabama) and extends to the Florida Keys and Dry Tortugas off the southwest coast of Florida. This proposed action area also includes inland waterways, such as the St John's River and the Caloosahatchee River and the Department of Defense-owned ATON near the Atlantic Undersea Test and Evaluation Center (AUTEC) in the Bahamas.

(3) The Great Lakes proposed action area includes waters off northern Michigan to the border between the United States and Canada. This proposed action area includes the northern portion of Lake Michigan extending into St. Mary's River, Munuscong Lake, and Lake Nicolet. Of note, no oceanic waters are part of the Great Lakes proposed action area.

(4) The Gulf of Mexico and U.S. Inland States, including the Mississippi River and its Tributaries, (GoMEX and Mississippi River) proposed action area includes state and territorial waters extending 12 nm (19 km) from Alabama (where it borders with Florida) to Texas (where it borders with Mexico). This proposed action area also includes inland waterways and their tributaries along the Ohio and Tennessee Rivers, the Cumberland River in Kentucky and Tennessee, Tombigbee River in Alabama and Mississippi; the Mississippi River in Louisiana, Mississippi, and Arkansas; and the Ouachita River in Louisiana and Arkansas.

(5) The Pacific Northwest (PNW) proposed action area includes state and territorial waters extending 12 nm (19 km) from southern Washington State to northern Oregon where they border each other along the Columbia River. The proposed action area includes the Columbia River from the mouth at the Pacific Ocean to where it joins the Snake River and ends at the border of Washington and Idaho and also includes a northern segment of the Willamette River that joins with and the Columbia River in Oregon. The Pacific Ocean is not a part of the PNW proposed action area.

(6) The Southeast Alaska (SEAK) proposed action areas includes state and territorial waters extending 12 nm (19 km) from Baranof and Prince of Wales Islands and consists primarily of a portion of the inside passage from Juneau south to Revillagigedo Island. This proposed action area includes only coastal passages of the Pacific Ocean.

Alternative 1: Replacement of Up to 30 WCCs

Under Alternative 1, the Coast Guard would acquire and operate up to 30 WCCs with planned design lives of 30 years each to fulfill mission requirements in the proposed action areas in IW&WR, portions of the Alaska Inside Passage; portions of the Great Lakes, and several other navigable waterways around the United States.

Similar to the current fleet's operations, the Alternative 1 would include vessel operations to establish, operate, and maintain the lighted and unlighted buoys and beacons to maintain the United States Visual ATON System. This mission contributes to protecting national interests by ensuring safe and efficient flow of commercial vessel traffic through our nation's waters. Although it is expected that the WCCs, similar to the current inland tender fleet, would be capable of performing non-ATON missions such as Ports, Waterways and Coastal Security; Search and Rescue; Marine Environmental Protection; and Marine Safety, their primary focus would be on the ATON mission.

Full operational capability would be achieved when all planned WCCs have been produced and are operational. Coast Guard WCC operations and training would occur after delivery of each WCC from the shipbuilder to the Coast Guard. For example, the first WCC delivery to the Coast Guard is expected in 2023 and the cutter would then be operational in 2024. The last WCC is expected to be delivered and operational in 2030.

The Proposed Action would include WCC operation, maintenance, and decommissioning of up to 11 WCC construction class (WCC WLIC) tenders to replace the current capabilities of 13 inland construction tenders (WLIC); up to 16 WCC River Buoy class (WCC WLR) tenders to replace the capabilities of the river buoy tenders (WLR); and up to three Inland Buoy class (WCC WLI) tenders to replace the capabilities of the inland buoy tenders (WLI). Although there are three classes proposed and design specifications are not final, the design would maximize commonality between the three classes to reduce sustainment costs, training needs, and other associated requirements

The WCC WLIC would be specifically designed for establishing and replacing fixed ATON and would be equipped with impact and vibratory pile driving and extraction equipment and spuds. The WCC WLR an WCC WLI would have capability to deploy and retrieve buoy mooring equipment from the seabed or riverbed using a water jet system would also be equipped to move buoys, and move and recover sinkers, chain, wire rope, synthetic rope, and other materials without a crane.

All WCCs would have the ability to tow one vessel (of equivalent displacement) in either a side tow or stern tow. Each WCC would also have the capability to be towed by the bow, pushed ahead from the stern, and towed alongside from either port or starboard. Vessels would be towed according to specifications in the Cutter Towing Operations Tactics, Techniques, and Procedures (CGTTP 3-91.15 issued March 2017). All WCCs would also recover stray, stranded, and scrap buoys.

Vessel performance testing for a WCC would be similar to testing conducted for the current inland tender fleet. Scheduled maintenance would likely occur within close proximity to each WCC's homeport; however, the exact locations of all the homeports for all WCCs are not known at this time.

Alternative 2, Reduced Acquisition of Coast Guard Owned and Operated Systems

The Coast Guard would explore hybrid government and contracted options for mission performance. Ship platforms would meet similar technical specifications discussed in Alternative 1. Potential scenarios could include: Contractor-owned (commercial entity funds ship construction, overhaul and maintenance) and government-operated (Coast Guard provides the personnel); government-owned (government funds ship construction, overhaul and maintenance) and contractor-operated (a commercial operating company provides the crew); or contractor-owned and contractor-operated systems (Coast Guard provides neither platforms or personnel).

Alternative 3, Mixed Fleet

The mixed fleet solution would be a combination of cutters and shore-based assets (including ATON team units), electronic ATON, and contracted ATON services. To accomplish a mixed fleet solution, additional Coast Guard ATON personnel and teams would be required. To accommodate the additional ATON teams, existing facilities would require expansion and construction of new shore based facilities could be necessary. Use of electronic ATON instead of physical ATON could also prove necessary.

No Action Alternative

The evaluation of a No Action Alternative is required by the regulations implementing NEPA. Under the No Action Alternative, the Coast Guard would fulfill its statutory missions in the IW&WR using the existing inland tender fleet. The existing assets would continue to age, causing a decrease in efficiency, increasing operational costs, and increasing risk of equipment failure or damage due to significant systems and parts no longer being available.

Summary of Expected Impacts

While the Coast Guard must work toward environmental compliance during the design and acquisition of WCCs, each vessel is not expected to impact the environment (biological, physical, or socioeconomic resources) until it is operational. In addition, vessel construction in commercial shipyards is not expected to impact any physical or biological resources.

The three action alternatives being considered would all reduce the size of the overall fleet. As such, the PEIS analyzes the potential impact of the range of up to 30 WCCs, as this would be the highest number projected to be operational in the Coast Guard's proposed action areas. Acoustic and physical stressors associated with the Proposed Action may potentially impact the physical and biological environment in the proposed action areas. Potential acoustic stressors include: The depth-sounder, navigation system, vessel noise, ATON signal noise, tool noise, and pile driving noise. Potential physical stressors include: Vessel movement, bottom disturbance, ground disturbance (removal of brush), pile driving, debris, and ATON retrieval devices and tow lines.

Since the WCC fleet would service a broad geographic area, stressors associated with the Proposed Action may potentially impact physical resources (including air quality, ambient sound, bottom habitat and sediments, and water quality), biological resources (including critical habitat), and socioeconomic resources. The PEIS evaluates the likelihood that a resource would be exposed to or encounter a stressor and identifies the impact associated with that exposure or encounter. The likelihood of an exposure or encounter is based on the stressor, location, and timing relative to the spatial and temporal distribution each biological resource or critical habitat.

Under the Proposed Action, the depth-sounder, navigation system, vessel noise, ATON signal noise, tool noise, pile driving noise, vessel movement, anchoring, spud placement, debris, ATON retrieval devices and tow lines, and pile driving associated with the Proposed Action are not expected to result in significant impact to the following resources: Air quality, ambient sound, bottom habitat and sediments, water quality, amphibians, aquatic and terrestrial vegetation, birds, invertebrates, insects, fish, Essential Fish Habitat, reptiles, terrestrial and marine mammals, commercial fishing, marine construction, mineral extraction, oil and gas extraction, recreation and tourism, renewable energy, research, transportation and shipping, and subsistence fishing and hunting. The Proposed Action may affect, but is not likely to adversely affect, any Endangered Species Act (ESA)-listed amphibians, aquatic and terrestrial vegetation, birds, invertebrates, insects, fish, reptiles, and terrestrial and marine mammals.

The Proposed Action is not expected to result in the destruction or adverse modification of federally-designated critical habitat that may be found in any of the proposed action areas. Pursuant to the Migratory Bird Treaty Act (MBTA; 16 U.S.C 703-712 et seq.), the Proposed Action would not result in a significant adverse effect on migratory bird populations. Pursuant to the Magnuson‐Stevens Fishery Conservation and Management Act (16 U.S.C. 1801-1882), depth-sounder/navigation system noise, vessel noise, vessel movement, and pile driving associated with the Proposed Action would not adversely affect the quality or quantity of Essential Fish Habitat within the Coast Guard's proposed action areas.

Anticipated Permits and Authorizations

The Coastal Zone Management Act (16 U.S.C 1451 et seq.) was enacted to protect the coastal environment from demands associated with residential, recreational, and commercial uses. The Coast Guard would determine the impact of the Proposed Action and provide a Coastal Consistency Determination or Negative Determination to the appropriate state agency for anticipated concurrence once the homeports are selected for the WCCs.

The ESA of 1973 (16 U.S.C 1531 et seq.) provides for the conservation of endangered and threatened species and the ecosystems on which they depend. The Coast Guard anticipates consulting under Section 7 of the ESA with the services, the National Marine Fisheries Service and the U.S. Fish and Wildlife Service, that have jurisdiction over the species (50 CFR 402.14(a)).

The Marine Mammal Protection Act (MMPA; 16 U.S.C 1361 et seq.) established, with limited exceptions, a moratorium on the “taking” of marine mammals in waters or on lands under U.S. jurisdiction, and on the High Seas by vessels or persons under U.S. jurisdiction. The MMPA further regulates “takes” of marine mammals in U.S. waters and by U.S. citizens on the High Seas. The term “take,” as defined in Section 3 (16 U.S.C. 1362) of the MMPA, means “to harass, hunt, capture, or kill, or attempt to harass, hunt, capture, or kill any marine mammal”. “Harassment” was further defined in the 1994 amendments to the MMPA as any act of pursuit, torment, or annoyance which (i) has the potential to injure a marine mammal or marine mammal stock in the wild (that is, Level A Harassment); or (ii) has the potential to disturb a marine mammal or marine mammal stock in the wild by causing disruption of behavioral patterns, including, but not limited to, migration, breathing, nursing, breeding, feeding, or sheltering (that is, Level B Harassment). Where appropriate, the Coast Guard anticipates requesting a Letter of Authorization to “take” marine mammals, defined as Level B harassment.

Schedule for the Decision-Making Process

Following the scoping period announced in this Notice of Intent, and after consideration of all comments received during scoping, Coast Guard will prepare a Draft PEIS for the acquisition and operation of up to 30 WCCs. Once the Draft EIS is completed, it will be made available for a 45-day public review and comment period. Coast Guard will announce the availability of the Draft EIS in the Federal Register and local media outlets. Coast Guard expects the Draft EIS will be available for public review and comment in 2021. In meeting CEQ regulations requiring EISs to be completed within 2 years the Coast Guard anticipates the final PEIS would be available in 2022, which would be published in the Federal Register. Should new information become available after the completion of the draft or final PEIS, supplemental NEPA documentation may be prepared in support of new information or changes in the Proposed Action considered under the PEIS.

Public Scoping Process

The Notice of Intent initiates the scoping process, which guides the development of a PEIS. The Coast Guard is seeking comments on the potential environmental impacts that may result from the Proposed Action or preliminary program alternatives. The PEIS would include, among other topics, discussions of the purpose and need for the Proposed Action, a description of alternatives, a description of the affected environment, and an evaluation of the environmental impact of the Proposed Action and alternatives.

The Coast Guard intends to follow the CEQ regulations implementing the NEPA (40 CFR 1500-1508) by scoping through public comments. Scoping, which is integral to the process for implementing NEPA, provides a process to ensure that (1) issues are identified early and properly studied; (2) issues of little significance do not consume substantial time and effort; (3) the draft PEIS is thorough and balanced; and (4) delays caused by an inadequate PEIS are avoided.

Public scoping is a process for determining the scope of issues to be addressed in this PEIS and for identifying the issues related to the Proposed Action that may have a significant effect on the environment. The scoping process begins with publication of this notice and ends after the Coast Guard has:

• Invited the participation of federal, state, and local agencies, any affected Indian tribe, and other interested persons;

• Consulted with affected Federally Recognized Tribes on a government-to-government basis, and with affected Alaska Native corporations, in accordance with Executive Order 13175 and other policies. Native American concerns, including impacts on Indian trust assets and potential impacts to cultural resources, will be given appropriate consideration;

• Determined the scope and the issues to be analyzed in depth in the PEIS;

• Indicated any related environmental assessments or environmental impact statements that are not part of the PEIS;

• Identified other relevant environmental review and consultation requirements, such as Coastal Zone Management Act consistency determinations, and threatened and endangered species and habitat impacts; and

• Indicated the relationship between timing of the environmental review and other aspects of the application process.

With this Notice of Intent, the Coast Guard is asking federal, state, and local agencies with jurisdiction or special expertise with respect to environmental issues in the project area to formally cooperate with us in the preparation of the PEIS.

Once the scoping process is complete, the Coast Guard will prepare a draft PEIS, and will publish a Federal Register notice announcing its public availability. The Coast Guard will provide the public with an opportunity to review and comment on the draft PEIS. After the Coast Guard considers those comments, we will prepare the final PEIS and similarly announce its availability, as well as solicit public review and comment. Comments received during the draft PEIS review period will be available in the public docket.

Public Participation

Pursuant to the CEQ regulations, the Coast Guard invites public participation in the NEPA process. This notice requests public participation in the scoping process, establishes a public comment period, and provides information on how to participate.

The 45-day public scoping period begins April 27th, 2021 and ends June 11th, 2021. Comments and related material must be received by the Coast Guard on or before June 11th, 2021.

The Coast Guard encourages comments submitted through the Federal Decision-Making portal at http://www.regulations.gov, using the search function for Waterways Commerce Cutter or by docket number. If your material cannot be submitted using http://www.regulations.gov, contact U.S. Coast Guard Headquarters, ATTN: LCDR S. Krolman (CG-9327), 2703 Martin Luther King Jr. Ave. SE, Stop 7800, Washington DC 20593-7800 or Coast Guard at HQS-SMB-CG-WaterwaysCommerceCutter@uscg.mil. A phone message may be left at 202-475-3104. In your submission, please include the docket number for this notice of intent and provide a reason for each suggestion or recommendation.

The Coast Guard reviews all comments received but will only post comments that address the topic of this notice. The Coast Guard may choose not to post off-topic, inappropriate, or duplicate comments that we receive. If you visit the online docket and sign up for email alerts, you will be notified when comments are posted or when the Coast Guard publishes another notice, such as the meeting notice mentioned below.

The Coast Guard accepts anonymous comments. Comments we post to https://www.regulations.gov will include any personal information you have provided. For more about privacy and the docket, and submissions in response to this document, see DHS's eRulemaking System of Records notice (85 FR 14226, March 11, 2020). Documents mentioned in this notice of intent as being available in the docket, and public comments, will be in our online docket at http://www.regulations.gov and can be viewed by following that website's instructions.

Public Meeting

Coast Guard does not plan to hold in-person public meetings during the scoping period due to the ongoing COVID-19 pandemic; however, the Coast Guard does plan to host virtual meetings May 11th and May 12th, 2021. The times and virtual meeting registration information will be announced in a separate notice published in the Federal Register. Meeting information will also be posted on https://www.dcms.uscg.mil/Our-Organization/Assistant-Commandant-for-Engineering-Logistics-CG-4-/Program-Offices/Environmental-Management/Environmental-Planning-and-Historic-Preservation/, no later than April 27th, 2021.

Dated: April 13, 2021.
Aileen Sedmak,
Waterways Commerce Cutter Program Manager.

[FR Doc. 2021-07969 Filed 4-16-21; 8:45 am]

BILLING CODE 9110-04-P